DEPARTMENT OF THE INTERIOR

National Park Service

Arkansas Post National Memorial Final EIS Availability

AGENCY: National Park Service, Interior.

ACTION: Notice of Availability of the Final Environmental Impact Statement and General Management Plan for Arkansas Post National Memorial, Arkansas.

SUMMARY: Pursuant to section 102(2) of the National Environmental Policy Act of 1969, the National Park Service (NPS) announces the availability of the Final Environmental Impact Statement and General Management Plan (EIS/GMP) for Arkansas Post National Memorial (ARPO). This notice is being furnished as required by National Environmental Policy Act Regulations 40 CFR 1501.7.

DATES: The required no-action period on this Final EIS/GMP will expire 30 days after the Environmental Protection Agency has published a notice of availability of the Final EIS/GMP in the Federal Register.

ADDRESSES: Copies of the Final EIS/GMP are available by request by writing to Arkansas Post National Memorial, 1741 Old Post Road, Gillett, Arkansas 72055 or by telephone 870-548-2207, or by e-mail arpo_superintendent@nps.gov. The document can be picked-up in person at visitor center, 1741 Old Post Road, Gillett, Arkansas. The document can also be found on the internet at the NPS Planning website at: http://planning.nps.gov/plans.cfm.

FOR FURTHER INFORMATION CONTACT: John Paige, Job Captain, Denver Service Center—PSD, 12795 West Alameda Parkway, P.O. Box 25287, Denver, CO 80225-0287 or at telephone number 303-969-2356; or Superintendent, Arkansas Post National Memorial, 1741 Old Post Road, Gillett, Arkansas 72055, or by telephone 870-548-2207.

SUPPLEMENTARY INFORMATION: The ARPO consists of the Memorial and Osotouy Units. The memorial commemorates the human settlement near the confluence of the Arkansas and Mississippi Rivers and the events associated with the first European settlement in the Lower Mississippi River Valley by interpreting and fostering an appreciation of the interaction of the cultural groups, their histories, and their significance to the region.

The purpose of the general management plan is to set forth the basic management philosophy for the ARPO and to provide strategies for addressing issues and achieving identified management objectives. The Final EIS/GMP describes and analyzes the environmental impacts of a proposed action and two action alternatives for the future management direction of the ARPO. A no action alternative is also evaluated.

A notice of availability of the draft document was published in the Federal Register on January 16, 2003 (FR Vol. 68, No. 16). Written comments were accepted through March 25, 2003. The NPS considered all written comments in accordance with the 40 CFR part 1503.

Approximately 500 copies of the draft were distributed to government agencies, public interest groups, and individuals. The complete text of the draft General Management Plan/Environmental Impact Statement was posted on the NPS Web site.

A series of public meetings were held in DeWitt, Dumas, and Stuttgart, Arkansas, in March of 2003 to discuss clarification and concerns about the alternatives. In addition, to the public meetings, the park superintendent made one presentation during the public comment period to a civic organization.

The final EIS/GMP document responds to agency and public comments received on the draft document.

Dated: November 17, 2003.
James A. Loach,
Acting Regional Director.

[FR Doc. 04-134 Filed 1-5-04; 8:45 am]

BILLING CODE 4310-DE-P